DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 20, 2013.

FOR FURTHER INFORMATION CONTACT: Ms. Lorenza Wilds, IRSAC Program Manager, National Public Liaison, CL: NPL, 7559, 1111 Constitution Avenue NW., Washington, DC 20224. Telephone: 202-622-6440 (not a toll-free number). Email address: *Public_liaison@irs.gov.

SUPPLEMENTARY INFORMATION: Notice is hereby given pursuant to section 10(a)(2) of the Federal Advisory Committee Act, 5 U.S.C. App. (1988), a public meeting of the IRSAC will be held on Wednesday, November 20, 2013, from 9:00 a.m. to 1:15 p.m. at the Melrose Hotel, 2430 Pennsylvania Ave. NW., Potomac Ballroom, Washington, DC 20036. Issues to be discussed include, but not limited to: The IRS Should Continue to Expand Voluntary Correction Programs to Facilitate Taxpayers Self-Reporting Prior Year Non-compliance, Risk Assessing Large Taxpayers, Schedule M-3, “Net Income (Loss) Reconciliation for Corporations with Total Assets of $10 Million or More”, Strategies to Increase Use of Online Payment Agreements, Modifications to Notice CP2030, Reducing Processing Time for the Form 2848, Power of Attorney and Declaration of Representative, Assisting Tax Preparers Working with Clients that are Victims of Identity Theft, Guidance to Practitioners Regarding Professional Obligations, Circular 230 Enrollment of Former Internal Revenue Service Employees. Reports from the four IRSAC subgroups, Large Business and International, Small Business/Self-Employed, Wage & Investment, and the Office of Professional Responsibility will also be presented and discussed. Last minute agenda changes may preclude advanced notice. The meeting room accommodates approximately 80 people, IRSAC members and Internal Revenue Service officials inclusive. Due to limited seating, please call Lorenza Wilds to confirm your attendance. Ms. Wilds can be reached at 202-622-6440. Attendees are encouraged to arrive at least 30 minutes before the meeting begins. Should you wish the IRSAC to consider a written statement, please write to Internal Revenue Service, Office of National Public Liaison, CL:NPL:7559, 1111 Constitution Avenue NW., Washington, DC 20224, or email *Public_liaison@irs.gov.

Dated: October 18, 2013.
Carl L. Medley,
Designated Federal Official (DFO), Branch Chief, National Public Liaison.

[FR Doc. 2013-24963 Filed 10-23-13; 8:45 am]

BILLING CODE 4830-01-P